DEPARTMENT OF TRANSPORTATION

Federal Railroad Administration

[Docket No. FRA-2023-0002-N-2]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA will seek approval of the Information Collection Request (ICR) abstracted below. Before submitting this ICR to the Office of Management and Budget (OMB) for approval, FRA is soliciting public comment on specific aspects of the activities identified in the ICR.

DATES: Interested persons are invited to submit comments on or before March 21, 2023.

ADDRESSES: Written comments and recommendations for the proposed ICR should be submitted on regulations.gov to the docket, Docket No. FRA-2023-0002. All comments received will be posted without change to the docket, including any personal information provided. Please refer to the assigned OMB control number (2130-0537) in any correspondence submitted. FRA will summarize comments received in response to this notice in a subsequent notice and include them in its information collection submission to OMB for approval.

FOR FURTHER INFORMATION CONTACT: Ms. Hodan Wells, Information Collection Clearance Officer, at email: Hodan.Wells@dot.gov or telephone: (202) 868-9412.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8-1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal statutes and regulations mandate. In summary, FRA reasons that comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Railroad Police Officers.

OMB Control Number: 2130-0537.

Abstract: Title 49 CFR part 207 requires railroads to notify States of all designated police officers who perform duties in their respective jurisdictions who were commissioned as police officers by another State or States. This is necessary to verify proper police authority.

In this 60-day notice, FRA made multiple adjustments which increased the previously approved burden hours from 11 hours to 18 hours. For instance:

• Under §§ 207.4(a), 207.4(b), and 207.6, the combined burden increased from 11 hours to 15.84 hours because of an increase in number of responses—from 100 to 150 updated notices and records per year. FRA's estimate is based on the anticipated increase in law enforcement in the railroad industry.

• FRA also added a new burden under § 207.4(b) to capture railroads' responses to FRA's inquiries regarding program review of the notification process.

Type of Request: Extension without change (revised estimates) of a currently approved collection.

Affected Public: Businesses.

Form(s): N/A.

Respondent Universe: 784 railroads.

Frequency of Submission: On occasion.

Reporting Burden:

CFR section | Respondent universe | Total annual responses | Average time per response | Total annual burden hours | Total annual dollar cost equivalent
|  | (A) | (B) | (C) = A * B | (D) = C * wage rates ¹
207.4(a)—RR Notice to State Officials—Written notice of RR police officer's commission to each State in which the RR police officer shall protect the railroad's property, personnel, passengers, and cargo | 784 railroads | 50 written notices | 15 minutes | 12.50 hours | $973.88
207.4(b)—RR copy of written notices to State officials | 784 railroads | 50 records | 2 minutes | 1.67 hours | 130.11
—RR copy of written notices to State officials—RR's email verification in response to FRA's inquiry for program review | 784 railroads | 50 verifications | 2 minutes | 1.67 hours | 130.11
207.6—Transfers—Application by RR police officers for new State certification/commission when transferring primary employment or residence from one State to another | 784 railroads | 50 records | 2 minutes | 1.67 hours | 130.11
Total ² | 784 railroads | 200 responses | N/A | 18 hours | 1,364
¹ The dollar equivalent cost is derived from the 2021 Surface Transportation Bureau's Full Year Wage A&B data series using the appropriate employee group hourly wage rate that includes a 75-percent overhead charge. For Professional/Administrative staff, this cost amounts to $77.91 per hour.
² Totals may not add due to rounding.

Total Estimated Annual Responses: 200.

Total Estimated Annual Burden: 18 hours.

Total Estimated Annual Burden Hour Dollar Cost Equivalent: $1,364.

FRA informs all interested parties that it may not conduct or sponsor, and a respondent is not required to respond to, a collection of information that does not display a currently valid OMB control number.

Authority: 44 U.S.C. 3501-3520.

Brett A. Jortland,
Deputy Chief Counsel.

[FR Doc. 2023-01046 Filed 1-19-23; 8:45 am]

BILLING CODE 4910-06-P